ENVIRONMENTAL PROTECTION AGENCY

[FRL-7230-5]

Agency Information Collection Activities: Proposed Collection; Comment Request; Voluntary Aluminum Industry Partnership (VAIP)

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Reporting Requirements under EPA's Voluntary Aluminum Industrial Partnership—EPA ICR No. 1967.02 for OMB Control number 2060-0411 which is due to expire on 07/31/2002. Before submitting the ICR to OMB for review and approval, EPA is soliciting comments on specific aspects of the proposed information collection as described below.

DATES: Comments must be submitted on or before August 12, 2002.

ADDRESSES: US Environmental Protection Agency, Climate Protection Partnerships Division, 1200 Pennsylvania Avenue, NW (6202J), Washington, DC 20460.

FOR FURTHER INFORMATION CONTACT: Jerome Blackman, Tel. 202-564-8995/Fax 202-565-2155, blackman.jerome@epa.gov.

SUPPLEMENTARY INFORMATION: Affected entities: Producers of primary aluminum.

Title: Reporting requirements under EPA's Voluntary Aluminum Industrial Partnership (VAIP)—OMB Control No. 2060-0411; EPA renewal ICR No. 1867.02) expiring 7/31/02.

Abstract: EPA's Voluntary Aluminum Industrial Partnership (VAIP) was initiated in 1995 and is an important voluntary program contributing to the overall reduction in emissions of greenhouse gases. This program focuses on reducing per fluorocarbon (PFC) emission from the production of primary aluminum. Eight of the nine U.S. producers of primary aluminum participate in this program. PFCs are very potent greenhouse gases with global warming potentials several thousand times that of carbon dioxide and they persist in the atmosphere for thousands of years. EPA has developed this ICR to renew authorization to collect information from companies in the VAIP. Participants voluntarily agree to the following: designating a VAIP liaison; undertaking technically feasible and cost-effective actions to reduce PFC emissions; and reporting to EPA, on an annual basis, the PFC emissions or production parameters use to estimate emissions. The information contained in the annual reports of VAIP members is used by EPA to assess the success of the program in achieving its goals. The information contained in the annual reports may be considered confidential business information and is maintained as such.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The VAIP is a continuing program and, as such, the burden for collecting relevant information has decreased overtime as data collection processes have been improved and no new one-time cost activities are expected that would impact all respondents. VAIP participants sign a voluntary Memorandum of Understanding (MOU) which assigns responsibilities to EPA and participating companies. The MOU has been signed by 6 of the 8 participating companies under the initial ICR for this program. The remaining companies are expected to sign of the course of the re-newed MOU and, therefore, will be subject to the one-time burden associated with completing and submitting the MOU to EPA.

The projected hour burden for this collection of information is as follows:

Average annual reporting burden: 73 hours plus 94.5 hours (one time for the 2 of 8 respondents that have not signed voluntary program MOU).

Average annual record keeping burden: 0 hours.

Average burden hours/response: 56.5 hours for the annual tracking report; and 16.5 hours associated with additional activities. 94.5 if MOU has not been signed.

Frequency of response: one per respondent per year.

Estimated number of respondents per year: 8.

Cost burden to respondents:

Estimated total annualized cost burden: $64,767.

Total labor cost: $64,767.

Total capital and start-up costs: $0.

Estimated total operation and maintenance costs: $0.

Purchase of services costs: $0.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 7, 2002.
Karl Schultz,
Acting for Chief, Methane and Sequestration Branch.

[FR Doc. 02-14995 Filed 6-12-02; 8:45 am]

BILLING CODE 6560-50-P